SUSQUEHANNA RIVER BASIN COMMISSION

Projects Approved for Consumptive Uses of Water; Correction

AGENCY: Susquehanna River Basin Commission.

ACTION: Notice; correction.

SUMMARY: The Susquehanna River Basin Commission published a document in the Federal Register of May 15, 2015, concerning projects approved by rule by the Susquehanna River Basin Commission during the period set forth in DATES. The document contained incorrect dates.

FOR FURTHER INFORMATION CONTACT: Jason E. Oyler, Regulatory Counsel, telephone: (717) 238-0423, ext. 1312; fax: (717) 238-2436; email: joyler@srbc.net.

Correction

In the Federal Register of May 15, 2015, in FR Doc. 80-94, on page 28039, in the third column, correct the DATES caption to read:

DATES: March 1-31, 2015.

Authority: Pub. L. 91-575, 84 Stat. 1509 et seq., 18 CFR parts 806, 807, and 808.

Dated: May 19, 2015.
Stephanie L. Richardson,
Secretary to the Commission.

[FR Doc. 2015-12557 Filed 5-22-15; 8:45 am]

BILLING CODE 7040-01-P